DEPARTMENT OF LABOR

Employment and Training Administration

[TA-W-83,129]

International Paper Company Courtland Alabama Paper Mill Printing & Communications Papers Division a Subsidiary of International Paper Company Including On-Site Leased Worker From Manpower, Western Express, Liberty Healthcare Corporation, and K2 Mansfield Courtland, Alabama; Amended Certification Regarding Eligibility To Apply for Worker Adjustment Assistance

In accordance with Section 223 of the Trade Act of 1974, as amended (“Act”), 19 U.S.C. 2273, the Department of Labor issued a Certification of Eligibility to Apply for Worker Adjustment Assistance on February 6, 2014, applicable to workers International Paper Company, Alabama Paper Mill, Printing & Communication Papers Division, a subsidiary of International Paper Company, including on-site leased workers from Manpower, Western Express, and Liberty Healthcare Corporation, Courtland, Alabama. The Department's Notice of Determination was published in the Federal Register on February 24, 2014 (79 FR 3840).

In response to a petition (TA-W-85,452) filed on behalf of workers at K2 Mansfield, Courtland, Alabama, the Department reviewed the certification for workers of the subject firm. The workers were engaged in the production of uncoated and coated freesheet paper products.

The investigation confirmed that on-site leased workers from K2 Mansfield worked on-site at the Courtland, Alabama location.

Based on these findings, the Department is amending this certification to include on-site leased workers from K2 Mansfield.

The amended notice applicable to TA-W-83,129 is hereby issued as follows:

“All workers International Paper Company, Alabama Paper Mill, Printing & Communication Papers Division, a subsidiary of International Paper Company, including on-site leased workers from Manpower, Western Express, Liberty Healthcare Corporation, and K2 Mansfield, Courtland, Alabama, who became totally or partially separated from employment on or after October 10, 2012, through February 6, 2016, and all workers in the group threatened with total or partial separation from employment on the date of certification through two years from the date of certification, are eligible to apply for adjustment assistance under Chapter 2 of Title II of the Trade Act of 1974, as amended.”

Signed in Washington, DC, this 14th day of August, 2014.
Michael W. Jaffe,
Certifying Officer, Office of Trade Adjustment Assistance.

[FR Doc. 2014-21623 Filed 9-10-14; 8:45 am]

BILLING CODE 4510-FN-P